DEPARTMENT OF DEFENSE

Department of the Navy

[Docket ID USN-2018-HQ-0014]

Privacy Act of 1974; System of Records

AGENCY: Department of the Navy, DoD.

ACTION: Notice of a modified system of records.

SUMMARY: The Office of the Department of the Navy proposes to modify a system of records, Family and Unaccompanied Housing Program, NM1110-01. This system is used for Department of Defense (DoD) housing program management and therefore used to determine the eligibility of civilian and contract personnel to utilize government owned, leased and privatized housing for current and retired military and to provide housing services at military installations and enterprise reporting and performance metrics. The system also provides a public website for property owners and managers to advertise referral properties to Service members. This system is required to ensure timely and efficient DoD housing operations, products and services.

DATES: Comments will be accepted on or before October 5, 2018. This proposed action will be effective on the date following the end of the comment period unless comments are received which will result in a contrary determination.

ADDRESSES: You may submit comments, identified by docket number and title, by any of the following methods:

* Federal Rulemaking Portal: http://www.regulations.gov. Follow the instructions for submitting comments.

* Mail: Department of Defense, Office of the Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Robin Patterson, Head, FOIA/Privacy Act Program Office, Department of the Navy, 2000 Navy Pentagon, Washington, DC 20350-2000, or by phone at (202) 685-6546.

SUPPLEMENTARY INFORMATION: This system was established to automate housing program management and provide enterprise reporting and program metrics. 10 U.S.C. chapter 169 provides authorities for the DoD housing programs which require a modern, secure, information system for operations, monitoring, compliance and reporting. The SORN is updated to reflect the Navy system and is now named Enterprise Military Housing (EMH). The system is also utilized by the Army (DA), Marines (Included in DON), Air Force (DAF) and Coast Guard (CG). Data elements collected have also been revised to include additional personal contact information such as cell phone, email and DoD ID, and to reflect a new source, property managers and owners. Additional parties have been added within the new routine uses for the system. These new parties include, DoD Medical Commands, the Department of Housing and Urban Development, the Department of Justice, State, Federal, local, foreign, and international law enforcement agencies, the National Archives and Records Administration, members of Congress, and other Federal entities.

The Department of the Navy's notices for systems of records subject to the Privacy Act of 1974, as amended, have been published in the Federal Register and are available from the address in FOR FURTHER INFORMATION CONTACT or from the Defense Privacy and Civil Liberties Division website at http://defense.gov/privacy.

The proposed system report, as required by the Privacy Act of 1974, as amended, was submitted on June 5, 2018, to the House Committee on Oversight and Government Reform, the Senate Committee on Governmental Affairs, and the Office of Management and Budget (OMB) pursuant to paragraph 7 of OMB Circular No. A-108, “Federal Agency Responsibilities for Review, Reporting, and Publication under the Privacy Act,” revised December 23, 2016 (December 23, 2016 81 FR 94424).

Dated: August 29, 2018.
Shelly E. Finke,
Alternate OSD Federal Register Liaison Officer, Department of Defense.

SYSTEM NAME AND NUMBER:

Family and Unaccompanied Housing Program, NM1110-01.

SECURITY CLASSIFICATION:

Unclassified.

SYSTEM LOCATION:

Department of the Navy (DON) Strategic Delivery Point at 1968 Gilbert Street, Building W-143 in Norfolk, VA 23511-3318.

SYSTEM MANAGER(S):

eMH System Manager, Commander, Navy Installations Command, Housing Code N93, Suite 1000, 2713 Mitscher Road SW, Anacostia Annex, Washington, DC 20373-5802. Phone number: (202) 433-3580.

AUTHORITY FOR MAINTENANCE OF THE SYSTEM:

10 U.S.C. 5013, Secretary of the Navy; 10 U.S.C. 5041, Headquarters, Marine Corps; 10 U.S.C. 3013, Secretary of the Army; 10 U.S.C. 8013, Secretary of the Air Force; 14 U.S.C. chapter 18, Coast Guard Housing Authorities; 10 U.S.C. 2831, Military Family Housing Management Account; DoD 4165.63-M, DoD Housing Management; and E.O. 9397 (SSN), as amended.

PURPOSE OF THE SYSTEM:

To support enterprise program management and reporting of Department of Defense (DoD) Housing programs. To determine an individual's eligibility for Department of Navy (DON), Marine Corps, Department of Army (DA), Department of Air Force (DAF), and Coast Guard (CG) housing, including privatized, leased and rental property program housing, and notification for subsequent assignment to housing or granting a waiver to allow occupancy of community housing. To support the programming and execution of housing entitlements. To support the timely and efficient delivery of DoD housing program products and services. Additional purposes of the system include:

a. Efficiently managing housing for the purpose of determining priority and listing individuals' names on the appropriate housing waiting list.

b. Efficiently managing housing for the purpose of overseeing housing occupancy upon assignment or lease.

c. Referring individuals and families to privatization partners for the purpose of supporting privatization portfolio management.

d. Determining eligibility for furnishings for the purpose of managing and monitoring the usage of furnishings and government provided equipment.

e. Providing housing information and reports to DON, DA, DAF, CG or other military components and government agencies for the purpose of supporting housing infrastructure such as safety and emergency identification and location lists; local school and community population impact studies; health and environmental impact studies; evacuation and relocation planning for natural disasters.

f. Supporting DoD security investigations for the purpose of DoD and national security.

g. Supporting DoD entitlement programming, budgeting and execution for the purpose of accurate and timely DoD budget estimates and funds execution.

h. Interfacing with the Defense Manpower Management System (DMDC) for the purpose of verifying eligibility for housing, data accuracy and supporting population measurements and surveys.

i. Supporting the determination of current and projected requirements for DoD owned, leased and privatized housing for environmental and budgeting purposes.

j. Providing DON, DA, DAF, CG or other military components and government agencies the ability to track violations or complaints by or against those who occupy DoD housing and community housing occupied by DoD personnel for the purpose of damage collections and record keeping.

k. Providing a public website, HOMES.mil, for property owners and managers to advertise referral properties to Service members in the DON, DA, DAF, and CG.

CATEGORIES OF INDIVIDUALS COVERED BY THE SYSTEM:

Current and retired military/civilian personnel, including contract employees eligible for or interested in occupying DON, DA, Coast Guard and DAF housing, those occupying DON, DA or DAF housing and privatized housing, and property owners and managers advertising referral properties to Service members on HOMES.mil.

CATEGORIES OF RECORDS IN THE SYSTEM:

For primary military housing applicants including: Installation name, full name, Social Security Number (SSN), DoD ID number, gender, marital status, birth date, current home address, permanent home address, work phone number, home phone number, cell phone number, fax number, work email address, home email address, rank/rate, pay grade, civilian pay grade equivalent, branch of service, unit identification code (UIC), geographic bachelor, voluntarily or involuntarily separated, time involuntarily separated, last unit, location of last assignment, agency or type of civilian, length of service, time remaining on active duty, service start date, date of rank, projected rotation date, projected rotation location, End of Active Obligated Service Date, Exceptional Family Member Level, Forward UIC Command, current unit, reporting date, estimated family arrival date, name of employer, unit or employer mailing address, housing allowance start and stop dates, entitlement condition type, entitlement condition end date, entitlement condition start date, personnel type, Americans with Disabilities Act housing requirements, complaints by or against, criminal conviction or violations, cigarette smoking habits, vehicle information, and type, breed and size of pet.

If applicable, data for related and non-related dependents to include: Installation name, total number in family, full name, Social Security Number (SSN), DoD ID number, birth date, gender, relation to primary applicant, dependent start date with primary applicant, dependent end date with primary applicant, entitlement condition type, entitlement condition end date, entitlement condition start date, work phone number, home phone number, cell phone number, work email address, home email address, current mailing address, permanent mailing address, rank/rate, branch of service, Dependent UIC, Exceptional Family Member Level, civilian pay grade equivalent, service start date, date of rank, time remaining on active duty, projected rotation date, criminal conviction, cigarette smoking habits, Americans with Disabilities Act housing requirements.

Additional housing information is collected for primary applicants and dependents to include: Particular housing preferences; special health problems; copies of permanent change of station orders; temporary orders; emergency contact full name, home, cell and work phone number and relation; detaching endorsement from prior duty station; and pet health records.

The following information is collected on property owners and managers advertising referral properties on HOMES.mil: First name, last name, primary phone, alternate phone (optional), company name (optional), website (optional), Branch of Service, and email address.

RECORD SOURCE CATEGORIES:

Individual; DD Form 1746, Application for Assignment to Housing; Military Orders; Emergency Contact Form; Defense Enrollment Eligibility Reporting System (DEERS); Defense Civilian Payroll System (DCPS); detaching endorsement from prior duty station; military pay records; privatized partner system.

ROUTINE USES OF RECORDS MAINTAINED IN THE SYSTEM, INCLUDING CATEGORIES OF USERS AND PURPOSES OF SUCH USES:

In addition to those disclosures generally permitted under 5 U.S.C. 552a(b) of the Privacy Act of 1974, as amended, these records contained therein may specifically be disclosed outside the DoD as a routine use pursuant to 5 U.S.C. 552a(b)(3) as follows:

a. To private partners who operate DON, DA, DAF, and CG housing for the purpose of privatized housing referral, management, operations and reporting.

b. To community property owners and managers participating in the Rental Property Program for the purpose of management and efficient referral coordination.

c. To U.S. government security agencies, police and fire departments for the purpose of accident, health, safety, and other investigative activities.

d. To DoD Medical Commands for the purpose of environmental and health studies.

e. To Child Protective Services for the purpose of providing information during their investigation into possible child abuse.

f. To adoption agencies for the purpose of providing information for the purpose of qualifying a couple or individual to adopt.

g. To public school systems and State and local governments with demographic data for the purpose of determining military impact on school population.

h. To the Department of Housing and Urban Development (HUD) and the Census Bureau for the purpose of supporting housing programs and Census studies and surveys.

i. To the appropriate Federal, State, local, territorial, tribal, foreign, or international law enforcement authority or other appropriate entity where a record, either alone or in conjunction with other information, indicates a violation or potential violation of law, whether criminal, civil, or regulatory in nature.

j. To any component of the Department of Justice for the purpose of representing the DoD, or its components, officers, employees, or members in pending or potential litigation to which the record is pertinent.

k. In an appropriate proceeding before a court, grand jury, or administrative or adjudicative body or official, when the DoD or other Agency representing the DoD determines the records are relevant and necessary to the proceeding; or in an appropriate proceeding before an administrative or adjudicative body when the adjudicator determines the records to be relevant to the proceeding.

l. To the National Archives and Records Administration for the purpose of records management inspections conducted under the authority of 44 U.S.C. 2904 and 2906.

m. To a Member of Congress or staff acting upon the Member's behalf when the Member or staff requests the information on behalf of, and at the request of, the individual who is the subject of the record.

n. To appropriate agencies, entities, and persons when (1) the DON suspects or has confirmed that there has been a breach of the system of records; (2) the DON has determined that as a result of the suspected or confirmed breach there is a risk of harm to individuals, the DON (including its information systems, programs, and operations), the Federal Government, or national security; and (3) the disclosure made to such agencies, entities, and persons is reasonably necessary to assist in connection with the DON's efforts to respond to the suspected or confirmed breach or to prevent, minimize, or remedy such harm.

o. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

p. To community property owners and managers advertising referral properties in HOMES.mil for efficiently tracking participating property owners and managers, and filing, reviewing, and resolving complaints and violations involving referral properties.

POLICIES AND PRACTICES FOR STORAGE OF RECORDS:

Paper records in local housing offices are in secure storage cabinets and electronic records are centrally stored in a secure Navy system. Access to paper and electronic records is restricted to DoD employees with a need to know.

POLICIES AND PRACTICES FOR RETRIEVAL OF RECORDS:

Records are retrieved by installation name, name of applicant or name of resident, house number and address of resident.

POLICIES AND PRACTICES FOR RETENTION AND DISPOSAL OF RECORDS:

Records are retained for up to three years after termination of housing occupancy and then destroyed. eMH system hard drives and media are destroyed using National Security Agency/Central Security Service (NSA/CSS) approved methods. Paper records containing PII or sensitive information are destroyed using NSA/CSS evaluated crosscut shredders.

ADMINISTRATIVE, TECHNICAL, AND PHYSICAL SAFEGUARDS:

Physical and electronic access is restricted to designated individuals having a need to know in the performance of official duties and who are properly screened and cleared for need-to-know. Physical entry is restricted as records are maintained in a secured building maintained behind a firewall, protected by the use of locks, guards, and accessible only to authorized personnel. Paper records are maintained in file cabinets under the control of authorized personnel during working hours. The office space in which the file cabinets are located is locked outside of official working hours. Computer terminals are located in supervised areas. The system has an Authority to Operate and access to the system is password and or Systems Software uses Primary Key Infrastructure (PKI)/Common Access Card (CAC) protected.

RECORD ACCESS PROCEDURES:

Individuals seeking access to information about themselves contained in this system of records should address written inquiries to the Housing Office at the station/base/installation where they applied for housing. DON official station/base mailing addresses are published as an appendix to the Navy's compilation of system of records notices. DA official mailing addresses are published in DA Pamphlet 25-50, Compilation of Army Addresses. DAF official mailing addresses are published as an appendix to DAF's compilation of system of records notices. Coast Guard official mailing addresses are published at http://www.uscg.mil/Hr/cg133/Housing/default.asp.

Requests must be signed and include installation name, full name of applicant or name of resident, house number, and year(s) of occupancy. Individuals should provide full name, SSN, or DoD ID number, military status, or other information verifiable from the record itself. In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The Navy's rules for accessing records and for contesting contents and appealing initial agency determinations are published in Secretary of the Navy Instruction 5211.5, Department of the Navy (DON) Privacy Program; 32 CFR part 701, Availability of Department of the Navy Records and Publication of Department of the Navy Documents Affecting the Public; or may be obtained from the system manager.

NOTIFICATION PROCEDURES:

Individuals seeking to determine whether this system of records contains information about themselves should address written inquiries to the Housing Office at the station/base/installation where they applied for housing. DON official station/base mailing addresses are published as an appendix to the Navy's compilation of system of records notices. DA official mailing addresses are published in DA Pamphlet 25-50, Compilation of Army Addresses. DAF official mailing addresses are published an appendix to DAF's compilation of system of records notices. Coast Guard official mailing addresses are published at http://www.uscg.mil/Hr/cg133/Housing/default.asp.

Requests must be signed and include full name of applicant or name of resident, house number, and year(s) of occupancy. Individuals should provide full name, SSN, or DoD ID number, military status, or other information verifiable from the record itself. In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

Initially published April 1, 2008, 73 FR 17334.

[FR Doc. 2018-19204 Filed 9-4-18; 8:45 am]

BILLING CODE 5001-06-P